NUCLEAR REGULATORY COMMISSION

[Docket No. 50-368]

Entergy Operations, Inc.; Notice of Withdrawal of Application for Amendment to Facility Operating License

The U.S. Nuclear Regulatory Commission (the Commission) has granted the request of Entergy Operations, Inc., to withdraw its January 29, 2003, application for proposed amendment to Facility Operating License No. NPF-6 for Arkansas Nuclear One, Unit No. 2, located in Pope County, Arkansas.

The proposed amendment would have revised the Technical Specifications pertaining to the spent fuel pool loading restrictions by redefining the regions, inserting Metamic poison panels in a portion of the spent fuel pool, and increasing the minimum boron concentration.

The Commission had previously issued a Notice of Consideration of Issuance of Amendment published in the Federal Register on March 18, 2003 (68 FR 12950). However, by letter dated August 26, 2003, the licensee withdrew the proposed change.

For further details with respect to this action, see the application for amendment dated January 29, 2003, and the licensee's letter dated August 26, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 15th day of October, 2003.
For the Nuclear Regulatory Commission.
Thomas W. Alexion,
Project Manager, Section 1, Project Directorate IV, Division of Licensing Project Management, Office of Nuclear Reactor Regulation.

[FR Doc. 03-26478 Filed 10-20-03; 8:45 am]

BILLING CODE 7590-01-P